DEPARTMENT OF EDUCATION

Applications for New Awards; Fund for the Improvement of Postsecondary Education—Open Textbooks Pilot Program

AGENCY: Office of Postsecondary Education, Department of Education.

ACTION: Notice.

SUMMARY: The Department of Education is issuing a notice inviting applications for new awards for fiscal year (FY) 2018 for the Open Textbooks Pilot program conducted under the Fund for the Improvement of Postsecondary Education (FIPSE), Catalog of Federal Domestic Assistance (CFDA) number 84.116T.

DATES:

Applications Available: July 30, 2018.

Deadline for Transmittal of Applications: August 29, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Stacey Slijepcevic, U.S. Department of Education, 400 Maryland Avenue SW, Room 268-32, Washington, DC 20202. Telephone: (202) 453-6150. Email: stacey.slijepcevic@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Open Textbooks Pilot program supports projects at institutions of higher education (IHEs) that create new open textbooks (as defined in this notice) or expand their use of open textbooks while maintaining or improving instruction and student learning outcomes. Applicants are encouraged to develop projects that demonstrate the greatest potential to achieve the highest level of savings for students through sustainable, expanded use of open textbooks in high-enrollment courses (as defined in this notice) or in programs that prepare individuals for in-demand fields.

Background: The growth in college textbook costs is a key component of the overall increase in the cost of attending college. The cost of college textbooks increased 88 percent between 2006 and 2016.¹ In the 2016-17 academic year, the average college student budget for books and supplies was $1,263 for students attending 4-year institutions and $1,458 for students attending 2-year institutions.² Increasing textbook costs introduce an additional barrier to college access and completion, particularly for low-income students. In recent years, the development of open textbooks has emerged as a potential solution to increasing college textbook costs. While open textbooks often support general education or introductory courses, the Department seeks to promote degree completion by supporting the development of open textbooks for courses at different levels within an academic program. Therefore, this pilot program emphasizes the expansion of the use of existing open textbooks developed for general education or introductory courses, and the development of open textbooks for several required courses in one or more high-enrollment majors to ensure that students will benefit from cost savings throughout their programs.

¹ Bureau of Labor Statistics, U.S. Department of Labor, The Economics Daily, College tuition and fees increase 63 percent since January 2006 (https://www.bls.gov/opub/ted/2016/college-tuition-and-fees-increase-63-percent-since-january-2006.htm).

² National Center of Education Statistics, 2017 Digest of Education Statistics, (https://nces.ed.gov/programs/digest/d17/tables/dt17_330.40.asp?current=yes).

There is also a shortage of open textbooks to support instruction in career and technical education, where it is equally important to help students reduce costs. Technical textbooks are among the more expensive books that students must purchase, and they often must be updated frequently to keep pace with changing technologies, which adds to the costs associated with these books. Because of the frequent updates, students are prevented from relying on lower-cost used books. To ensure that students in career and technical education programs have access to low-cost textbooks that are up-to-date, the Department encourages the development of open textbooks that would support students enrolled in high-enrollment programs (as defined in this notice) for career and technical education associate degrees, or career and technical education associate degree programs designed to meet the needs of in-demand occupations and industries (as defined in this notice.

Priorities: This notice includes three absolute priorities and one competitive preference priority.

We are establishing these priorities for the FY 2018 grant competition and any subsequent year in which we make awards from the list of unfunded applications from this competition in accordance with section 437(d)(1) of the General Education Provisions Act (GEPA), 20 U.S.C. 1232(d)(1).

Absolute Priorities: These priorities are absolute priorities. Under 34 CFR 75.105(c)(3) we consider only applications that meet all three of these priorities.

These priorities are:

Absolute Priority 1—Improving Collaboration and Dissemination Through Consortia Arrangements.

An eligible applicant must propose to lead and carry out a consortium project that leverages the expertise and resources of at least three IHEs, including the lead applicant, and that engages employers or workforce stakeholders (as defined in this notice) and/or nonprofit or community organizations, as appropriate, to participate in the project. These entities are described below under Eligible Applicants. Applicants must explain how the members of the consortium will work in partnership to develop and implement open textbooks that: (a) Reduce the cost of college for large numbers of students by reducing textbook costs and (b) contain content that aligns student learning objectives with the skills or knowledge required by large numbers of students (at a given institution or nationally) as part of a degree pathway, or in the case of a career and technical postsecondary program, meet industry standards in in-demand industry sectors or occupations (as defined in this notice).

Absolute Priority 2—Addressing Gaps in the Open Textbook Marketplace and Bringing Solutions to Scale.

An applicant must address the issue of gaps in the open textbook marketplace and of how to bring market solutions to scale. An applicant must propose a comprehensive plan to: (a) Identify and assess existing open educational resources in the credential pathway or the subject area or areas proposed, before creating new ones; (b) focus on the creation and expansion of education and training materials that can be taken to scale, within and beyond the participating consortium members, to reach a broad range of students participating in high-enrollment courses or preparing for in-demand occupations (as defined in this notice); (c) create protocols to review any open textbooks created or adapted through the project for accuracy, rigor, and accessibility for students with disabilities; and (d) disseminate information about the results of the project to other IHEs, including promoting the adoption of any open textbooks created or adapted through the project.

Note: Grant funds may be used for professional development to help build capacity and expand the use of open textbooks for any faculty and staff members at IHEs.

Absolute Priority 3—Promoting Degree Completion.

An applicant must propose to build upon existing open textbook materials and/or develop new open textbooks for (a) multiple courses at different levels in a program's course sequence and that are typically required for individuals majoring in one or more high-enrollment programs and/or (b) several courses along the pathway to an associate degree in one or more career and technical education field(s).

The applicant must include plans for: (a) Promoting and tracking the use of open textbooks in postsecondary courses, including an estimate of the projected cost savings for students; (b) assessing the impact of open textbooks on instruction and student learning outcomes, and (c) updating the open textbooks beyond the funded period.

Competitive Preference Priority: This priority is a competitive preference priority. Under 34 CFR 75.105(c)(2)(i) we award up to an additional 10 points to an application, depending on how well the application meets this priority.

This priority is:

Competitive Preference Priority—Using Technology-Based Strategies for Personalized Learning and Continuous Improvement (Up to 10 Points).

To meet this priority, an applicant must propose a project that focuses on improving instruction and student learning outcomes by integrating technology-based strategies, such as artificial intelligence and adaptive learning, with the open textbooks proposed for development to provide personalized learning experiences. These technologies must be capable of supporting ongoing electronic assessments that enable students to monitor their own learning mastery and/or allow instructors to monitor the individual performance of each student in the classes or courses for which the applicant proposes to develop open textbooks.

Waiver of Proposed Rulemaking: Under the Administrative Procedure Act (5 U.S.C. 553), the Department generally offers interested parties the opportunity to comment on proposed priorities, definitions, and other requirements. Section 437(d)(1) of GEPA, however, allows the Secretary to exempt from rulemaking requirements regulations governing the first grant competition under a new or substantially revised program authority. This is the first grant competition for this program under new or substantially revised authority and therefore qualifies for this exemption. In order to ensure timely grant awards, the Secretary has decided to forgo public comment on the priorities, definitions, and other requirements under section 437(d)(1) of GEPA. These priorities, definitions, and requirements will apply to the FY 2018 grant competition and any subsequent year in which we make awards from the list of unfunded applications from this competition.

Definitions

Open textbook means a textbook that is licensed under a worldwide, non-exclusive, royalty-free, perpetual, and irrevocable license to the public to exercise any of the rights under copyright conditioned only on the requirement that attribution be given as directed by the copyright owner. An open textbook resides in the public domain or has been released under a license that permits their free use, reuse, modification, and sharing with others.

High-enrollment courses means courses that are required for an associate or bachelor's degree at the IHE, that either: (1) Have student enrollments above the average enrollment of courses at the institution or (2) have higher than average enrollments nationally as compared to other academic or career and technical education courses.

High-enrollment program means a degree program or career and technical education postsecondary program at the IHE that either: (1) Has student enrollments above the average enrollment for programs at the institution or (2) has higher than average enrollments nationally as compared to other academic or career and technical education programs.

Workforce stakeholder means an individual or organization with an interest in the employability of others either for self-interest or the interest of other employers.

In-demand industry sector means an industry sector that has a substantial current or potential impact (including through jobs that lead to economic self- sufficiency and opportunities for advancement) on the State, regional, or local economy, as appropriate, and that contributes to the growth or stability of other supporting businesses, or the growth of other industry sectors.

In-demand occupation means an occupation that currently has or is projected to have a number of positions (including positions that lead to economic self-sufficiency and opportunities for advancement) in an industry sector so as to have a significant impact on the State, regional, or local economy, as appropriate.

Sector partner means a member of a workforce collaborative, convened by or acting in partnership with a State board or local board, that organizes key stakeholders interconnected by labor markets, technologies, and worker skill needs into a working group that focuses on shared goals and resource needs.

Program Authority: 20 U.S.C. 1138-1138d.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Discretionary grants.

Estimated Available Funds: $4,950,000.

Contingent upon the availability of funds and the quality of applications, we may make additional awards in subsequent years from the list of unfunded applications for this competition.

Estimated Range of Awards: $1,500,000-$4,950,000.

Estimated Average Size of Awards: $2,475,000.

Maximum Award: We will not make an award exceeding $4,950,000 for a single budget period of 48 months.

Estimated Number of Awards: 1-3.

Note: The Department is not bound by any estimates in this notice.

Project Period: Up to 48 months.

III. Eligibility Information

1. Eligible Applicants: Eligible applicants are IHEs as defined in section 101 of the Higher Education Act of 1965, as amended (HEA) (20 U.S.C. 1001), that:

(a) Lead the activities of a consortium that is comprised of at least:

i. Three IHEs as defined in section 101 of the HEA, including the lead applicant;

ii. An educational technology or electronic curriculum design expert (which may include such experts that are employed by one or more of the consortium institutions); and

iii. An advisory group of at least five employers, workforce organizations, or sector partners (as defined in this notice); and

(b) Have demonstrated experience in the development and implementation of open educational resources.

2. Cost Sharing or Matching: This program does not require cost sharing or matching.

3. Subgrantees: Under 34 CFR 75.708(b) and (c) a grantee under this competition may award subgrants—to directly carry out project activities described in its application—to entities listed in the grant application.

IV. Application and Submission Information

1. Application Submission Instructions: For information on how to submit an application please refer to our Common Instructions for Applicants to Department of Education Discretionary Grant Programs, published in the Federal Register on February 12, 2018 (83 FR 6003), and available at www.gpo.gov/fdsys/pkg/FR-2018-02-12/pdf/2018-02558.pdf.

2. Submission of Proprietary Information: Given the types of projects that may be proposed in applications for the Open Textbook Pilot, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make awards by the end of FY 2018.

4. Funding Restrictions: We reference regulations outlining funding restrictions in the Applicable Regulations section of this notice.

5. Recommended Page Limit: The application narrative is where you, the applicant, address the selection criteria that reviewers use to evaluate your application. We recommend that you (1) limit the application narrative to no more than 60 pages and (2) use the following standards:

• A “page” is 8.5″ × 11″, on one side only, with 1″ margins at the top, bottom, and both sides.

• Double space all text in the application narrative, including titles, headings, footnotes, quotations, references, and captions.

• Use a readable 12-point font such as Times New Roman, Courier, Courier New, or Arial.

The recommended 60 page limit applies only to the application narrative and does not apply to Part I, the cover sheet; Part II, the budget section, including the narrative budget justification; Part IV, the assurances and certifications; or the one-page abstract, the resumes, the bibliography, or the letters of support.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion.

Points awarded under the competitive preference priority are in addition to any points an applicant earns for all of the selection criteria in this notice. The maximum score that an application may receive under the competitive preference priority and the selection criteria is 110. The selection criteria are as follows:

a. Significance (up to 20 points).

The Secretary considers the significance of the proposed project. In determining the significance of the proposed project, the Secretary considers the following factors:

(1) The extent to which the proposed project is likely to build local capacity to provide, improve, or expand services that address the needs of the target population.

(2) The potential replicability of the proposed project or strategies, including, as appropriate, the potential for implementation in a variety of settings.

b. Quality of the Project Design (up to 15 points).

The Secretary considers the quality of the design of the proposed project. In determining the quality of the design of the proposed project, the Secretary considers the following factors:

(1) The extent to which the goals, objectives, and outcomes to be achieved by the proposed project are clearly specified and measurable.

(2) The extent to which the design of the proposed project is appropriate to, and will successfully address, the needs of the target population or other identified needs.

(3) The extent to which the proposed project is designed to build capacity and yield results that will extend beyond the period of Federal financial assistance.

c. Quality of Project Services (up to 15 points).

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The likelihood that the services to be provided by the proposed project will lead to improvements in the achievement of students as measured against rigorous academic standards.

(2) The extent to which the services to be provided by the proposed project involve the collaboration of appropriate partners for maximizing the effectiveness of project services.

(3) The extent to which the training or professional development services to be provided by the proposed project are of sufficient quality, intensity, and duration to lead to improvements in practice among the recipients of those services.

d. Quality of Project Personnel (up to 5 points).

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of the project director or principal investigator.

(2) The qualifications, including relevant training and experience, of key project personnel.

e. Adequacy of Resources (up to 25 points).

The Secretary considers the adequacy of resources for the proposed project. In determining the adequacy of resources for the proposed project, the Secretary considers the following factors:

(1) The relevance and demonstrated commitment of each partner in the proposed project to the implementation and success of the project.

(2) The extent to which the costs are reasonable in relation to the objectives, design, and potential significance of the proposed project.

f. Quality of the Management Plan (up to 10 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and principal investigator and other key project personnel are appropriate and adequate to meet the objectives of the proposed project.

g. Quality of the Project Evaluation (up to 10 points).

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria and the competitive preference priority, if applicable, provided in this notice. The individual scores of the reviewers will be added and the sum divided by the number of reviewers to determine the peer review score. The Department may use more than one tier of reviews in evaluating grantees. The Department will prepare a rank order of applications based solely on the evaluation of their quality according to the selection criteria and competitive preference priority points.

In the event there are two or more applications with the same final score in the rank order listing, and there are insufficient funds to fully support each of these applications, the Department will apply the following procedure to determine which application or applications will receive an award:

First Tiebreaker: The first tiebreaker shall be the highest average score for the selection criterion of “Significance.” If a tie remains, the second tiebreaker shall be utilized.

Second Tiebreaker: The second tiebreaker shall be the highest average score for the selection criterion “Adequacy of Resources.” If a tie remains, the third tiebreaker shall be utilized.

Third Tiebreaker: The third tiebreaker shall be the highest average score for the Competitive Preference Priority “Using Technology-Based Strategies for Personalized Learning and Continuous Improvement.” If a tie remains, the fourth tiebreaker shall be utilized.

Fourth Tiebreaker: The applicant that proposes the highest estimate of projected savings that will be achieved for students in response to Absolute Priority 3.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we will notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department will use the following performance measures in assessing the successful performance of the Open Textbooks Pilot program grants:

a. The number of students who enrolled in courses that use open textbooks developed through the grant;

b. The number of students who completed courses which used the open textbooks developed through the grant;

c. Student and faculty evaluations of the quality of the open textbooks compared with other kinds of textbooks they have used, the ease of use of these materials and the cost savings associated with the use of open textbooks;

d. The average cost savings per student;

e. The total cost savings for students who used open textbooks compared to students in the same course of study who used traditional textbooks;

f. The number and percentage of courses among consortium members that adopted the use of open textbooks, where appropriate, as opposed to those that continued to use paper or electronic textbooks; and

g. The number of institutions outside of the consortium that adopted the use of the open textbooks produced through the grant.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 24, 2018.
Diane Auer Jones,
Principal Deputy Under Secretary, Delegated to Perform the Duties of Under Secretary and Assistant Secretary, Office of Postsecondary Education.

[FR Doc. 2018-16264 Filed 7-27-18; 8:45 am]

BILLING CODE 4000-01-P